DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The ATSRAC will meet April 28 and 29, 2004, from 8:30 a.m. to 5 p.m.

ADDRESSES: Radisson Hotel Hampton, 700 Settlers Landing Road, Hampton, Virginia 23669.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee. The FAA will hold the meeting at the location listed under the ADDRESSES heading of this notice. The agenda topics for the meeting include—

• Status report of the tasks (68 FR 31741, May 28, 2003) assigned to Harmonization Working Groups 11, 12, and 13; and

• Presentation on resetting circuit breakers by Airbus, Boeing, and Dassault Aviation.

The meeting is open to the public; however, attendance will be limited by the size of the meeting room. The FAA will make the following services available if you request them by April 16, 2004:

• Teleconferencing

• Sign and oral interpretation

• A listening device

Individuals using the teleconferencing service and calling from outside the Washington, DC metropolitan area will be responsible for paying long-distance charges. To arrange for any of these services, contact the person listed under the FOR FURTHER INFORMATION CONTACT heading of this notice.

The public may present written statements to the Committee by providing 20 copies to the Committee's Executive Director or by bringing the copies to the meeting. Public statements will be considered if time allows.

Issued in Washington, DC, on April 5, 2004.
Ida M. Klepper
Acting Director, Office of Rulemaking.

[FR Doc. 04-7997 Filed 4-7-04; 8:45 am]

BILLING CODE 4910-13-P